DEPARTMENT OF ENERGY

Federal Energy Regulatory Commission

[Docket Nos. IC11-1-000 and IC11-1F-000]

Commission Information Collection Activities (FERC Form 1 and FERC Form 1F); Comment Request; Extension

AGENCY: Federal Energy Regulatory Commission.

ACTION: Notice of proposed information collections and request for comments.

SUMMARY: In compliance with the requirements of section 3506(c)(2)(A) of the Paperwork Reduction Act of 1995, 44 U.S.C. 3506(c)(2)(A) (2006), (Pub. L. 104-13), the Federal Energy Regulatory Commission (Commission or FERC) is soliciting public comment on the proposed information collections described below.

DATES: Comments in consideration of the collections of information are due October 3, 2011.

ADDRESSES: Comments may be filed either electronically or in paper format, and should refer to Docket Nos. IC11-1-000 and IC11-1F-000. For comments that only pertain to the FERC Form 1, specify only the related docket number. Comments that only pertain to the FERC Form 1F cannot be eFiled at this time due to a system issue and must be submitted via mail/courier. Documents must be prepared in an acceptable filing format and in compliance with the Federal Energy Regulatory Commission submission guidelines at http://www.ferc.gov/help/submission-guide.asp.

Comments may be filed electronically under Docket Number IC11-1-000 when comment pertains to both collections via the eFiling link on the Commission's Web site at http://www.ferc.gov. First time users will have to establish a user name and password (http://www.ferc.gov/docs-filing/eregistration.asp) before eFiling. The Commission will send an automatic acknowledgement to the sender's e-mail address upon receipt of comments through eFiling. Commenters filing electronically should not make a paper filing. Commenters that are not able to file electronically must send their comments to: Federal Energy Regulatory Commission, Secretary of the Commission, 888 First Street, NE., Washington, DC 20426.

Users interested in receiving automatic notification of activity in Docket Number IC11-1 may do so through eSubscription at http://www.ferc.gov/docs-filing/esubscription.asp. However, due to a system issue, Docket Number IC11-1F is not available at this time for eSubscription. In addition, all comments and FERC issuances may be viewed, printed or downloaded remotely through FERC's website using the “eLibrary” link and searching on Docket Numbers IC11-1 and IC11-1F. For user assistance, contact FERC Online Support at: ferconlinesupport@ferc.gov, (866) 208-3676 (toll free), or (202) 502-8659 (TTY).

FOR FURTHER INFORMATION CONTACT: Ellen Brown may be reached by e-mail at DataClearance@FERC.gov, telephone at (202) 502-8663, and fax at (202) 273-0873.

SUPPLEMENTARY INFORMATION: In accordance with sections 304 and 309 of the Federal Power Act, FERC is authorized to collect and record data to the extent it considers necessary, and to prescribe rules and regulations concerning accounts, records and memoranda. The Commission may prescribe a system of accounts for jurisdictional companies and after notice and an opportunity for hearing may determine the accounts in which particular outlays and receipts will be entered, charged or credited.

The Form No. 1 is a comprehensive financial and operating report submitted for electric rate regulation and financial audits. Major is defined as having (1) One million Megawatt hours or more; (2) 100 megawatt hours of annual sales for resale; (3) 500 megawatt hours of annual power exchange delivered; or (4) 500 megawatt hours of annual wheeling for others (deliveries plus losses).

FERC Form 1-F is designed to collect financial and operational information from non-major public utilities and licensees. Non-major is defined as having total annual sales of 10,000 megawatt-hours or more in the previous calendar year and not classified as Major. The Commission collects Form Nos. 1 and 1-F information as prescribed in 18 CFR 141.1 and 141.2.

Under the existing regulations FERC jurisdictional entities subject to its Uniform System of Accounts ¹ must annually (quarterly for the 3Q) file with the Commission a complete set of financial statements, along with other selected financial and non financial data through the submission of FERC Forms 1, 1-F, and 3Q ². The FERC Annual/Quarterly Report Forms provide the Commission, as well as others, with an informative picture of the jurisdictional entities financial condition along with other relevant data that is used by the Commission, as well as others, in making economic judgments about the entity or its industry.

¹ See 18 CFR part 201.

² The FERC Form 3Q data collection (OMB Control No. 205) is not being renewed as part of this proceeding. Some information regarding the Form 3Q is included here as it relates to the FERC Forms 1 and 1F.

The information collected in the forms is used by Commission staff, state regulatory agencies and others in the review of the financial condition of regulated companies. The information is also used in various rate proceedings, industry analyses and in the Commission's audit programs and as appropriate, for the computation of annual charges based on certain schedules contained on the forms. The Commission provides the information to the public, interveners and all interested parties to assist in the proceedings before the Commission.

Additionally, the uniformity of information helps to present accurately the entity's financial condition and produces comprehensive data related to the entity's financial history helping to act as a guide for future action. The uniformity provided by the Commission's chart of accounts and related accounting instructions permits comparability and financial statement analysis of data provided by jurisdictional entities. Comparability of data and financial statement analysis for a particular entity from one period to the next, or between entities, within the same industry, would be difficult to achieve if each company maintained its own accounting records using dissimilar accounting methods and classifications to record similar transactions and events.

The FERC Annual Report Forms provide the Commission, as well as others, with an informative picture of the jurisdictional entities' financial condition along with other relevant data that is used by the Commission in making economic judgments about the entity or its industry. For financial information to be useful to the Commission, it must be understandable, relevant, reliable and timely.

Action: The Commission is requesting a three-year extension of the FERC Forms 1 and 1F reporting requirements, with no changes to the forms.

Burden Statement: The estimated annual public reporting burden is reflected in the following table:

Data collection | Number of respondents annually (1) | Number of responses per respondent (2) | Average burden hours per response (3) | Total annual burden hours (1) × (2) × (3)
Form 1 | 209 | 1 | 1,162 | 242,858
Form 1F | 5 | 1 | 116 | 580
Total |  |  |  | 243,438

The total estimated annual cost burden to respondents on the FERC Form 1 is $12,385,758 (242,858 hours × $51/hour ³). The average cost per respondent is $59,262.

³ The per hour figures were obtained from the Bureau of Labor Statistics National Industry-Specific Occupational and Employment Wage Estimates (http://www.bls.gov/oes/current/naics4_221100.htm), and are based on the mean wage statistics for staff in the areas of management, business and financial, legal and administrative. The mean wage was then increased by 20% to account for benefits/overhead.

The total estimated annual cost burden to respondents on the FERC Form 1F is $29,580 (580 hours × $51/hour ³). The average cost per respondent is $5,916.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collections of information; and (7) transmitting or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimate of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology (e.g. permitting electronic submission of responses).

Dated: July 28, 2011.
Nathaniel J. Davis, Sr.,
Deputy Secretary.

[FR Doc. 2011-19635 Filed 8-2-11; 8:45 am]

BILLING CODE 6717-01-P